DEPARTMENT OF HOMELAND SECURITY

Coast Guard

46 CFR Parts 10, 11, 12, and 15

[Docket No. USCG-2004-17914]

RIN 1625-AA16

Implementation of the 1995 Amendments to the International Convention on Standards of Training, Certification and Watchkeeping for Seafarers, 1978

AGENCY: Coast Guard, DHS.

ACTION: Notice of public meetings; request for comments.

SUMMARY: The Coast Guard announces a series of public meetings to receive comments on a notice of proposed rulemaking (NPRM) entitled “Implementation of the 1995 Amendments to the International Convention on Standards of Training, Certification and Watchkeeping for Seafarers, 1978” that published in the Federal Register on November 17, 2009. As stated in that document, the proposed amendments seek to more fully incorporate the requirements of the International Convention on Standards of Training, Certification and Watchkeeping for Seafarers, 1978, as amended (STCW Convention), as well as the Seafarer's Training, Certification and Watchkeeping Code (STCW Code) in the requirements for the credentialing of United States merchant mariners.

DATES: Public meetings will be held on the following dates:

• Tuesday, December 1, 2009, in Miami, FL from 9 a.m. until noon;

• Wednesday, December 2, 2009, in NY from 9 a.m. until noon;

• Wednesday, December 9, 2009, in New Orleans, LA from 9 a.m. until noon;

• Friday, December 11, 2009, in Seattle, WA from 9 a.m. until noon;

• Wednesday, January 20, 2010, in Washington, DC from 10 a.m. until 1 p.m.

Written comments and related material may also be submitted to Coast Guard personnel specified at those meetings for inclusion in the official docket for this rulemaking. The comment period for the NPRM closes on February 16, 2010. All comments and related material submitted after the meeting must either be submitted to our online docket via http://www.regulations.gov on or before February 16, 2010 or reach the Docket Management Facility by that date.

ADDRESSES: The public meetings will be held at the following locations:

• Tuesday, December 1, 2009, at the Marriott Miami Airport Hotel, 1201 NW LeJeune Road, Miami, FL 33126 from 9 a.m. until noon;

• Wednesday, December 2, 2009, at the Marriott New York LaGuardia Airport Hotel, 102-05 Ditmars Blvd, East Elmhurst, NY 11369 from 9 a.m. until noon;

• Wednesday, December 9, 2009, at the Renaissance Arts Hotel, 700 Tchoupitoulas Street, New Orleans, LA 70130 from 9 a.m. until noon;

• Friday, December 11, 2009, at the Marriott Seattle Airport Hotel, 3201 South 176th Street, Seattle, WA 98188 from 9 a.m. until noon;

• Wednesday, January 20, 2010, at United States Coast Guard Headquarters Building, Room 2415, 2100 Second Street, SW., Washington, DC 20593 from 10 a.m. until 1 p.m. Note: A government-issued photo identification (for example, a driver's license) will be required for entrance to the building.

Live Webcasts (audio and video) of the four public meetings to be held in Miami, FL, New York, NY, New Orleans, LA, and Seattle, WA, will also be broadcast online. The Web site for viewing those Webcasts can be found at http://www.stcwregs.us. The Webcasts will enable those using this feature only to view the proceedings and not to make remarks to those participating in the meetings in person. However, a verbatim record of these public meetings will be provided in the docket.

You may submit written comments identified by docket number USCG-2004-17914 before or after the meetings using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2004-17914.

FOR FURTHER INFORMATION CONTACT: If you have questions on this proposed rulemaking, call or e-mail Mr. Mark Gould, Maritime Personnel Qualifications Division, U.S. Coast Guard, telephone 202-372-1409, e-mail: Mark.C.Gould@uscg.mil. If you have questions on viewing or submitting material to the docket, call Ms. Renee V. Wright, Program Manager, Docket Operations, telephone 202-366-9826.

SUPPLEMENTARY INFORMATION:

Background and Purpose

The Coast Guard published a notice of proposed rulemaking (NPRM) in the Federal Register on November 17, 2009, entitled “Implementation of the 1995 Amendments to the International Convention on Standards of Training, Certification and Watchkeeping for Seafarers, 1978.” In the NPRM, we stated our intention to hold public meetings and to publish a notice announcing the location and date. This document is the notice of those meetings.

In the NPRM, we seek to more fully incorporate the requirements of the International Convention on Standards of Training, Certification and Watchkeeping for Seafarers, 1978, as amended (STCW Convention), as well as the Seafarer's Training, Certification and Watchkeeping Code (STCW Code) in the requirements for the credentialing of United States merchant mariners.

You may view the NPRM in our online docket, in addition to supporting documents prepared by the Coast Guard, and comments submitted thus far by going to http://www.regulations.gov. Once there, click on the “Read Comments” box. In the “Enter Keyword or ID” box, insert “USCG-2004-17914” and click search. Click the “Open Docket Folder” button in the “Actions” column. If you do not have access to the internet, you may view the docket online by visiting the Docket Management Facility in Room W12-40 on the ground floor of the Department of Transportation West Building, 1200 New Jersey Avenue, SE., Washington, DC 20590, between 9 a.m. and 5 p.m., Monday through Friday, except Federal holidays. We have an agreement with the Department of Transportation to use the Docket Management Facility.

We encourage you to participate in this rulemaking by submitting comments either orally at the meetings or in writing. If you bring written comments to the meetings, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meetings, contact Mr. Mark Gould at the telephone number or e-mail address indicated under the FOR FURTHER INFORMATION CONTACT section of this notice.

Dated: November 12, 2009.
J.G. Lantz,
Director of Commercial Regulations and Standards, U.S. Coast Guard.

[FR Doc. E9-27639 Filed 11-17-09; 8:45 am]

BILLING CODE 9110-04-P